DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be reviewing the fiscal plan for next year; the University's Institutional/Research Effectiveness Plan, the University's Institutional Purpose Statement, and conducting Board officer elections. All sessions of the meeting will be open to the public.

DATES: The meetings will be held on Thursday, November 15, 2001, and Friday, November 16, 2001, from 9 a.m. to 4 p.m.

ADDRESSES: The meetings will be held at the Marine Corps University, Breckinridge Hall, 2076 South Street, Room 215, Quantico, Virginia 22134.

FOR FURTHER INFORMATION CONTACT: Garry Smith, Executive Secretary, Marine Corps University Board of Visitors, 2076 South Street, Quantico, Virginia 22134, telephone number (703) 784-4037.

Dated: September 26, 2001.
Robert E. Vincent II,
Lieutenant Commander, Judge Advocate General's Corps, U.S. Navy, Federal Register Liaison Officer.

[FR Doc. 01-25139 Filed 10-5-01; 8:45 am]

BILLING CODE 3810-FF-P